DEPARTMENT OF AGRICULTURE

Farm Service Agency

[Docket ID FSA-2023-0024]

Information Collection Request; Volunteer Program

AGENCY: Farm Service Agency, USDA.

ACTION: Notice; request for comments.

SUMMARY: In accordance with the Paperwork Reduction Act, the Farm Service Agency (FSA) is requesting comments from all interested individuals and organizations on an extension of a currently approved information collection associated with the Volunteer Program.

DATES: We will consider comments that we receive by April 5, 2024.

ADDRESSES: We invite you to submit comments on this notice. You may submit comments electronically through the Federal eRulemaking Portal: Go to https://www.regulations.gov and search for Docket ID FSA-2023-0024. Follow the online instructions for submitting comments. All comments received will be posted without change and will be publicly available on https://www.regulations.gov.

FOR FURTHER INFORMATION CONTACT: For specific questions related to collection activities, contact Toni Flax (785) 421-8373 (voice); or, by email at: toni.flax@usda.gov. Persons with disabilities who require alternative means for communication should contact the USDA Target Center at (202) 720-2600 (voice).

SUPPLEMENTARY INFORMATION:

Title: Volunteer Program.

OMB Control Number: 0560-0232.

OMB Expiration Date for Approval: May 31, 2024.

Type of Request: Extension.

Abstract: Section 1526 of the Agriculture and Food Act of 1981 (7 U.S.C. 2272) authorizes the Secretary of Agriculture to establish a program (“the Volunteer Program”) to use volunteers to perform a wide range of activities to carry out the programs of the Department of Agriculture. In addition, 5 U.S.C. 3111 grants agencies the authority to establish programs designed to provide educationally-related work assignments for students, in non-pay status. For FSA's volunteer program, each volunteer must follow the same responsibilities and guidelines for conduct that Federal government employees are expected to follow. The volunteers, who are mainly students participating in the sponsored volunteer program, must complete a service agreement, attendance records, and other forms, and provide the required supporting documents to FSA. The information will allow FSA to effectively recruit, train, and accept volunteers to carry out programs supported by the Department of Agriculture, thereby benefitting volunteers, the Department of Agriculture, and the general public.

Without the information, FSA will be unable to document the services provided by the volunteers. FSA will report the collected information to offices within the Department of Agriculture and the Office of Personnel Management that request information on the Volunteer Program.

FSA continues to use forms AD-2022, AD-2023, AD-2024, and AD-2025 in the Volunteer Program. The burden hours decreased by 10 due to the removal of travel times. The respondents go to the county offices to do regular and customary business with FSA; this means no travel times is required specifically for the information collection and therefore, it is no longer included in the burden hour reporting. For the following estimated total annual burden on respondents, the formula used to calculate the total burden hours is the estimated average time per response multiplied by the estimated total annual responses.

Estimate of Average Time to Respond: Public reporting burden for collecting information under this notice is estimated to average 15 minutes (0.25) per response for each of the 4 forms, including the time for reviewing instructions, searching existing data sources, gathering and maintaining the data needed, and completing and reviewing the collection of information. Therefore, the public reporting burden would be an average 0.25 hours per response in this collection.

Type of Respondents: Any individuals.

Estimated Number of Respondents: 20.

Estimated Number of Responses per Respondent: 4.

Estimated Total Annual Reponses: 80.

Estimated Average Time per Response: 0.25 hours.

Estimated Total Annual Burden on Respondents: 20 hours.

We are requesting comments on all aspects of this information to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be a matter of public record. Comments will be summarized and included in the submission for Office of Management and Budget Approval.

Zach Ducheneaux,
Administrator, Farm Service Agency.

[FR Doc. 2024-02156 Filed 2-2-24; 8:45 am]

BILLING CODE 3410-E2-P